FEDERAL MARITIME COMMISSION

Sunshine Act Meeting

AGENCY HOLDING THE MEETING: Federal Maritime Commission.

TIME AND DATE: December 16, 2015; 10:00 a.m.

PLACE: 800 N. Capitol Street NW., First Floor Hearing Room, Washington, DC.

STATUS: The first portion of the meeting will be held in Open Session; the second in Closed Session.

MATTERS TO BE CONSIDERED:

Open Session

1. Briefing by the Port of New York and New Jersey on the Port's Terminal Information Portal System (TIPS)

2. Briefing on U.S.-China Bilateral Discussions

3. Briefing on 2015 World Shipping Summit, Guangzhou, China

4. Alternative Dispute Resolution, Arbitration—Regulatory Review

5. Staff Briefing on the West Coast Marine Terminal Operator Agreement, FMC Agreement No. 201143

Closed Session

1. Staff Briefing on the West Coast Marine Terminal Operator Agreement, FMC Agreement No. 201143

CONTACT PERSON FOR MORE INFORMATION: Karen V. Gregory, Secretary, (202) 523-5725.

Karen V. Gregory,
Secretary.

[FR Doc. 2015-31414 Filed 12-9-15; 4:15 pm]

BILLING CODE 6731-AA-P